DEPARTMENT OF ENERGY

Federal Energy Regulatory Commission

[Docket No. EL00-109-000]

Alternate Power Source, Inc., Complainant v. ISO New England, Inc., Respondent; Notice of Complaint

September 13, 2000.

Take notice that on September 11, 2000, Alternate Power Source, Inc. (APS), tendered for filing a Complaint under Section 206 and 306 of the Federal Power Act in which APS petitions the Commission for an order directing ISO New England, Inc. (ISO-NE) to suspend the April, 2000 ICAP auction “clearing price”; cease and desist from requiring APS to pay into escrow $700,000 for the month of April, 2000; cease and desist from “settling” the ICAP prices for the months of May, June and July, 2000, and from requiring any payments into escrow until a thorough investigation of all conduct and actions is completed; and if, after an investigation, there is a finding of anomalous conduct in the so-called ICAP auction “market” for the months April through July, 2000, direct ISO-NE to mitigate ICAP prices for those months.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before September 21, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before September 21, 2000.

Linwood A. Watson, Jr.,
Acting Secretary.

[FR Doc. 00-23983 Filed 9-18-00; 8:45 am]

BILLING CODE 6717-01-M